ENVIRONMENTAL PROTECTION AGENCY

40 CFR Part 52

[RI-01-043-6991a; A-1-FRL-6943-3]

Approval and Promulgation of Air Quality Implementation Plans; Rhode Island; Enhanced Motor Vehicle Inspection and Maintenance Program

AGENCY: Environmental Protection Agency (EPA).

ACTION: Final rule.

SUMMARY: EPA is approving a State Implementation Plan (SIP) revision submitted by the State of Rhode Island. This revision establishes and requires the implementation of an enhanced motor vehicle inspection and maintenance program. The intended effect of this action is to approve this program. This action is being taken in accordance with the Clean Air Act.

EFFECTIVE DATE: This rule will become effective on March 12, 2001.

ADDRESSES: Copies of the documents relevant to this action are available for public inspection during normal business hours, by appointment at the Office of Ecosystem Protection, U.S. Environmental Protection Agency, EPA-New England, One Congress Street, 11th floor, Boston, MA; Air and Radiation Docket and Information Center, U.S. Environmental Protection Agency, Room M-1500, 401 M Street, (Mail Code 6102), SW., Washington, DC; and Department of Environmental Management, 235 Promenade Street, Providence, RI 02908-5767.

FOR FURTHER INFORMATION CONTACT: Peter Hagerty, (617) 918-1049.

SUPPLEMENTARY INFORMATION: This Supplementary Information section is organized as follows:

I. What action is EPA taking today?

II. What deficiencies were identified in the notice of proposed rulemaking and how did Rhode Island address them?

III. What emission reduction credit may Rhode Island assume in the interim until the EPA has information available to assign appropriate credit?

IV. EPA Action.

V. Administrative Requirements.

I. What Action is EPA Taking Today?

In this action we are approving the submittal of an enhanced motor vehicle inspection and maintenance (I/M) program submitted by Rhode Island as a formal SIP revision on January 19, 2001. We are also approving an interim level of emission reduction credit for Rhode Island to use for planning purposes. This action was proposed on December 18, 2000 in the Federal Register (65 FR79040) and no comments were received on the proposal.¹

¹ EPA proposed this SIP revision using a “parallel process.” EPA provided for the public to comment on this SIP revision by making available the rules and materials that Rhode Island was proposing for approval on the state level in parallel with EPA's action. Rhode Island promulgated those rules prior to submitting them to EPA for this approval. One set of rules implementing this I/M program (Rhode Island Motor Vehicle Safety and Emissions Control Regulation No. 1) will not be finally effective until January 31, 2001, because Rhode Island law requires 20 days to elapse after a regulation is filed with the Secretary of State. Therefore, Regulation No. 1 will be effective shortly after signature of this notice, but prior to publication of this action in the Federal Register and prior to this action taking effect under the Clean Air Act. EPA is signing this action now because the State has done everything necessary for Regulation No. 1 to take effect on January 31, 2001, and we are simply awaiting passage of the 20 day filing period. See R.I. Gen. Laws section 42-35-4(b).

II. What Deficiencies Were Identified in the Notice of Proposed Rulemaking and How Did Rhode Island Address Them?

In order to meet certain requirements of EPA's I/M rule, Rhode Island was required to include in its final submittal: (1) a commitment to maintain a 96% compliance rate (or revise the SIP accordingly), (2) the appropriate enforcement oversight provisions for the Department of Motor Vehicles (DMV), and (3) a demonstration of the performance of its test-and-repair network. The final SIP submittal from Rhode Island address each of these requirements. Section 2 of the SIP narrative entitled “I/M Performance Standard,” now includes the appropriate commitment, as required by 40 CFR 51.361—Motorist Compliance Enforcement, to a 96% compliance rate. In section 14 of the SIP narrative entitled “Motorist Compliance Enforcement,” information on training, auditing, and oversight of enforcement personnel which meets the requirements of 40 CFR 51.362—Motorist Compliance Enforcement Oversight has been added. Lastly, as required in the notice of proposed rulemaking, Rhode Island has submitted information on failure rate by model year, number of waivers issued by month for the first six months of the program, and station audit sheets for a typical month of the program. The failure rates are almost identical to a nearby state utilizing the same equipment and test method. The waiver rate is 2.8% which is below the 3% in the plan, and the station audits show a very high rate of compliance. See supplemental technical support document dated January 24, 2001 for more specific information on this evaluation. EPA has concluded that Rhode Island's I/M program performance is sufficiently effective to meet the low enhanced performance standard. Rhode Island has met the requirements of section 40 CFR 51.353. (See III. below for information on interim credit.)

III. What Emission Reduction Credit May Rhode Island Assume in the Interim Until the EPA has Information Available to Assign Appropriate Credit?

As discussed in detail in the proposed rulemaking notice, we are approving the use of 75% of I/M 240 credit for future air quality planning in Rhode Island. Once the comparison study results are available from the Massachusetts study on this same test type which Rhode Island will be relying on to verify its credit, EPA will establish appropriate credit for the BAR31 test done on NYTEST equipment. If the emission reduction credits assigned do not meet or exceed the credit assumed by Rhode Island, Rhode Island and EPA will take appropriate action to correct any SIP shortfall in any SIP demonstrations that may rely on credit from the I/M program.

Other specific requirements of the EPA I/M rule and the rationale for EPA's proposed action are explained in the NPR and will not be restated here. No public comments were received on the NPR.

IV. EPA Action

EPA is approving the Rhode Island enhanced motor vehicle inspection and maintenance program as a revision to the Rhode Island SIP.

Nothing in this action should be construed as permitting or allowing or establishing a precedent for any future request for revision to any State implementation plan. Each request for revision to the State implementation plan shall be considered separately in light of specific technical, economic, and environmental factors and in relation to relevant statutory and regulatory requirements.

V. Administrative Requirements

Under Executive Order 12866 (58 FR 51735, October 4, 1993), this action is not a “significant regulatory action” and therefore is not subject to review by the Office of Management and Budget. This action merely approves state law as addressing Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501, et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 10, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Intergovernmental relations, Nitrogen dioxide, Ozone, Reporting and recordkeeping requirements.

Dated: January 31, 2001.
Stephen Perkins,
Acting Regional Administrator, EPA-New England.

Part 52 of chapter I, title 40 of the Code of Federal Regulations is amended as follows:

PART 52—[AMENDED]

1. The authority citation for part 52 continues to read as follows:

Authority: 42 U.S.C. 7401 et seq.

Subpart OO—Rhode Island

2. In § 52.2070 the table in paragraph (c) is amended by adding a new entry in numerical order under “Air Pollution Control Regulation” and by adding a new State citation to the end of the table for “Rhode Island Motor Vehicle Safety and Emissions Control Regulation” to read as follows:

§ 52.2070 Identification of plan.

* * * * *

(c) * * *

EPA Approved Rhode Island Regulations
State citation | Title/subject | State effective date | EPA approval date | Explanations
* * * * * * *
Air Pollution Control Regulation No. 34 | Rhode Island Motor Vehicle Inspection/Maintenance Program | March 30, 2000 | February 9, 2001 | Department of Environmental Management regulation containing I/M standards.
* * * * * * *
Rhode Island Motor Vehicle Safety and Emissions Control Regulation No. 1 | Rhode Island Motor Vehicle Inspection/Maintenance Program | January 31, 2001 | [Insert FR citation from published date] | Department of Administration regulation for the I/M program.
* * * * * * *

[FR Doc. 01-3284 Filed 2-8-01; 8:45 am]

BILLING CODE 6560-50-P